FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, effective on the corresponding date shown below:

License Number: 16013NF.

Name: Admiral Line, Inc.

Address: 662 Dell Road, Carlstadt, NJ 07072.

Date Revoked: November 7, 2002.

Reason: Failed to maintain valid bonds.

License Number: 17370NF.

Name: Antilles Wholesale Company.

Address: 1759 Bay Road, Miami, FL 33139.

Date Revoked: November 9, 2002.

Reason: Failed to maintain valid bonds.

License Number: 17571N.

Name: Atlantic Cargo Lines, Corporation.

Address: 10101 SW 8th Terrace, Miami, FL 33172.

Date Revoked: November 16, 2002.

Reason: Failed to maintain a valid bond.

License Number: 17466N.

Name: Compass Shipping, Inc.

Address: 525 Empire Blvd., Brooklyn, NY 11225.

Date Revoked: November 1, 2002.

Reason: Failed to maintain a valid bond.

License Number: 3459N.

Name: Cross Ocean International, Inc.

Address: 10101 S. Roberts Road, Suite 200, Palos Hills, IL 60465.

Date Revoked: November 3, 2002.

Reason: Failed to maintain a valid bond.

License Number: 16995N and 16995F.

Name: D.L. Central America, Inc.

Address: 3500 NW 115th Avenue, Miami, FL 33178.

Date Revoked: November 14, 2002 and November 9, 2002.

Reason: Failed to maintain valid bonds.

License Number: 17308N.

Name: Freightsmart.com, Inc. dba Saskia Container Line.

Address: 4615 Post Oak Place, Suite 145, Houston, TX 77027.

Date Revoked: October 27, 2002.

Reason: Failed to maintain a valid bond.

License Number: 16800F.

Name: Global Freight Forwarding, Inc.

Address: 324 East 1st Street, Suite 380, Los Angeles, CA 90012.

Date Revoked: November 9, 2002.

Reason: Failed to maintain a valid bond.

License Number: 3876F.

Name: Hawk International Transportation, Inc.

Address: 120 Eastern Avenue, Suite 204 A, Chelsea, MA 02150.

Date Revoked: October 11, 2002.

Reason: Failed to maintain a valid bond.

License Number: 4306F.

Name: International Transport Services, Inc.

Address: 18747 Sheldon Road, Cleveland, OH 44130.

Date Revoked: November 3, 2002.

Reason: Failed to maintain a valid bond.

License Number: 8097N.

Name: Jacksonville Caribbean Broker Services, Inc.

Address: 8550 Posey Road, Jacksonville, FL 32220.

Date Revoked: November 21, 2002.

Reason: Failed to maintain a valid bond.

License Number: 15688N.

Name: Millennium Logistics Services, Inc.

Address: 6709 NW 84th Avenue, Miami, FL 33166.

Date Revoked: November 10, 2002.

Reason: Failed to maintain a valid bond.

License Number: 16281N.

Name: Pan Asia Line Corporation.

Address: 820 S. Garfield Avenue, #303, Alhambra, CA 91801.

Date Revoked: October 23, 2002.

Reason: Failed to maintain a valid bond.

License Number: 11170N.

Name: Sage Freight Systems Inc. dba Sage Container Lines.

Address: 182-30 150th Road, Suite 108, Jamaica, NY 11413.

Date Revoked: October 16, 2002.

Reason: Failed to maintain a valid bond.

License Number: 4350NF.

Name: Seaborne International, Inc. dba Seaborne Express Line.

Address: 11222 La Cienega Blvd., Suite 470, Inglewood, CA 90304.

Date Revoked: November 9, 2002.

Reason: Failed to maintain valid bonds.

License Number: 17052F.

Name: Sec Sea & Air, Inc.

Address: 520 E. Carson Plaza Court, Suite 212A, Carson, CA 90746.

Date Revoked: November 4, 2002.

Reason: Failed to maintain a valid bond.

Sandra L. Kusumoto,
Director, Bureau of Consumer Complaints and Licensing.

[FR Doc. 02-31223 Filed 12-10-02; 8:45 am]

BILLING CODE 6730-01-P